DEPARTMENT OF HEALTH AND HUMAN SERVICES

Centers for Disease Control and Prevention

[60Day-2024-24EO; Docket No. CDC-2024-0027]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Evaluation of HIV Self-Testing and Clinical Testing Guidelines Implementation. This project is designed to collect data from HIV healthcare providers, working in various settings, on the awareness and uptake of HIV-related guidelines.

DATES: CDC must receive written comments on or before June 24, 2024.

ADDRESSES: You may submit comments, identified by Docket No. CDC-2024-0027 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluation of HIV Self-Testing and Clinical Testing Guidelines Implementation—New—National Centers for HIV, Viral Hepatitis, STD, and TB Prevention (NCHHSTP), Centers for Disease Control and Prevention (CDC).

Background and Brief Description

It takes several years and a significant number of staff and resources to develop and disseminate guidelines. The Division of HIV Prevention (DHP) has been a leader in informing providers and program staff when it comes to HIV prevention through respective guidelines. Yet, DHP's understanding of the awareness and use of HIV-related guidelines has been limited. There have been few efforts and resources dedicated to assessing and evaluating guideline implementation. With DHP's impending completion and publication of the HIV self-testing and updated HIV testing guidelines in 2024, this project proposes a mixed methods approach to evaluate the awareness and uptake of these guidelines by providers using quantitative and qualitative methods. These providers include those who work in health departments, community health centers, clinics, or community-based organizations.

The purpose of this data collection is to: (a) assess the awareness and use of the HIV self-testing and HIV testing guidelines by healthcare providers working in different health settings; (b) understand the barriers and facilitators to uptake of guidelines; and (c) inform CDC efforts to support guideline implementation through training, promotion, or technical assistance. The new HIV self-testing guideline and updated HIV testing guideline are yet to be published. This project is the first attempt to evaluate these guidelines and as such, no other Federal agency systematically collects this type of information from healthcare providers that supply HIV testing services. This data collection will allow DHP to understand how guidelines are being implemented in the early days of release and inform efforts including resource allocation for guideline development, translation, and implementation efforts.

CDC requests approval for a three-year information collection. Data are collected through surveys and virtual or phone interviews conducted with healthcare providers. There is no monetary compensation or incentives provided for participation in the interview or survey. These data may inform prevention program development and monitoring, resource allocation, and technical assistance needs at both the local and national levels. CDC estimates that this data collection will involve, 1100 surveys and 120 interviews in specific settings (community health centers, health departments, private clinics, public clinics, hospitals, and community-based organizations) over the course of three years. CDC requests OMB approval for an estimated 610 annual burden hours. Participation of respondents is voluntary and there is no cost to the respondents other than their time.

Estimated Annualized Burden Hours
Type of respondents | Form name | Number of respondents | Number of responses per respondent | Average burden per response (in hours) | Total burden (in hours)
Eligible Providers | Survey | 1,100 | 1 | 30/60 | 550
Eligible Providers | Interview Questionnaire | 120 | 1 | 30/60 | 60
Total |  |  |  |  | 610

Jeffrey M. Zirger,
Lead, Information Collection Review Office, Office of Public Health Ethics and Regulations, Office of Science, Centers for Disease Control and Prevention.

[FR Doc. 2024-08594 Filed 4-22-24; 8:45 am]

BILLING CODE 4163-18-P